ENVIRONMENTAL PROTECTION AGENCY

[FRL-7664-1]

Proposed CERCLA Section 122(h) Administrative Agreement for the Lower Passaic River Study Area portion of the Diamond Alkali Superfund Site, located in and about Essex, Hudson, Bergen and Passaic Counties, New Jersey

AGENCY: Environmental Protection Agency.

ACTION: Notice of proposed administrative settlement and opportunity for public comment.

SUMMARY: The United States Environmental Protection Agency (EPA) is proposing to enter into an administrative settlement to resolve certain claims under the Comprehensive Environmental Response, Compensation and Liability Act of 1980, as amended (CERCLA). Notice is being published to inform the public of the proposed settlement and of the opportunity to comment.

The settlement requires thirty-one (31) Settling Parties to make seven payments totaling $10,000,000 to resolve their potential liability for performance of the Remedial Investigation/Feasibility Study (“RI/FS”) and for Past Response Costs and Future Response Costs incurred and to be incurred in connection with the RI/FS for the Lower Passaic River Study Area. EPA has reserved its rights in the event of cost overruns. For thirty (30) days following the date of publication of this notice, EPA will receive written comments relating to the settlement. EPA will consider all comments received and may modify or withdraw its consent to the settlement if comments received disclose facts or considerations that indicate that the proposed settlement is inappropriate, improper or inadequate.

EPA's response to any comments received will be available for public inspection at EPA Region II, 290 Broadway, New York, New York 10007-1866.

DATES: Comments must be submitted on or before June 18, 2004.

ADDRESSES: The proposed settlement is available for public inspection at EPA Region II offices at 290 Broadway, New York, New York 10007-1866. Comments should reference the Diamond Alkali Superfund Site located in and about Essex, Hudson, Bergen and Passaic Counties, New Jersey, Index No. CERCLA-02-2004-2011. To request a copy of the proposed settlement agreement, please contact the individual identified below.

FOR FURTHER INFORMATION CONTACT: Kedari Reddy, Assistant Regional Counsel, New Jersey Superfund Branch, Office of Regional Counsel, U.S. Environmental Protection Agency, 17th Floor, 290 Broadway, New York, New York 10007-1866. Telephone: 212-637-3106.

Dated: May 5, 2004.
Kathleen C. Callahan,
Deputy Regional Administrator, Region 2.

[FR Doc. 04-11343 Filed 5-18-04; 8:45 am]

BILLING CODE 6560-50-P